DEPARTMENT OF THE INTERIOR

National Park Service

Minor Boundary Revision of Pinnacles National Monument

AGENCY: National Park Service, Interior.

ACTION: Announcement of boundary revision.

SUMMARY: This notice announces the revision to the boundary of Pinnacles National Monument, pursuant to the authority specified below, to include three adjacent and contiguous tracts of land in San Benito County, California, totaling 114.79 acres. Tract 02-105 contains 31.58 acres and is further identified by Assessor's Parcel Number (APN) 028-130-012. Tract 02-106 contains 81.71 acres and is further identified by APNs 028-130-032 and 028-130-033. Tract 02-107 contains 1.5 acres and is further identified by APN 028-130-018.

The tracts are depicted on Drawing No. 114/80,014, Sheet 2 of 3, Segment Map 01 (Consolidated 01-02), revised March 11, 2009. This map is on file and available for inspection at the following locations: National Park Service, Land Resources Program Center, Pacific West Region, 1111 Jackson St., Suite 700, Oakland, CA 94607, and National Park Service, Department of the Interior, Washington, DC 20240.

SUPPLEMENTARY INFORMATION: 16 U.S.C. 460l-9(c)(1) provides that after notifying the House Committee on Natural Resources and the Senate Committee on Energy and Resources, the Secretary of the Interior is authorized to make this boundary revision. This action will add three tracts containing a total of 114.79 acres to the Pinnacles National Monument. The National Park Service proposes to acquire these parcels from the individual tract owners, who have consented to the acquisition.

The National Park Service has determined that it will be feasible to administer these lands. The views of and impacts on local communities have been considered. Other alternatives for the management and protection of resources on these lands are not adequate.

DATES: The effective date of this boundary revision is March 3, 2010.

FOR FURTHER INFORMATION CONTACT: National Park Service, Chief, Pacific Land Resources Program Center, Pacific West Region, 1111 Jackson St., Suite 700, Oakland, CA 94607, (510) 817-1414. Before including your address, phone number, e-mail address, or other personal identifying information in your comment, you should be aware that your entire comment—including your personal identifying information—may be made publicly available at any time. While you can request in your comment that your personal identifying information be withheld from public review, we cannot guarantee that we will be able to do so.

Dated: February 25, 2010.
Rory D. Westberg,
Acting Regional Director, Pacific West Region.

[FR Doc. 2010-4413 Filed 3-2-10; 8:45 am]

BILLING CODE 4312-EP-P